DEPARTMENT OF COMMERCE

National Oceanic and Atmospheric Administration

RIN 0648-XE318

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will meet December 7, 2015 through December 15, 2015.

DATES: The Council will begin its plenary session at 8 a.m. in the Denali Room on Wednesday, December 9, continuing through Tuesday, December 15, 2015.

ADDRESSES: The meeting will be held at the Anchorage Hilton Hotel, 500 W. 3rd Ave., Anchorage, AK 99501.

Council address: North Pacific Fishery Management Council, 605 W. 4th Ave., Suite 306, Anchorage, AK 99501-2252; telephone: (907) 271-2809.

FOR FURTHER INFORMATION CONTACT: David Witherell, Council staff; telephone: (907) 271-2809.

SUPPLEMENTARY INFORMATION: The Scientific and Statistical Committee (SSC) will begin at 8 a.m. in the King Salmon/Iliamna Room on Monday December 7 and continue through Wednesday December 9, 2015. The Council's Advisory Panel (AP) will begin at 8 a.m. in the Dillingham/Katmai Room on Tuesday December 8, and continue through Saturday, December 12, 2015. The Recreational Quota Entity Committee (RQE) will meet on Monday, December 7, 2015, from 1 p.m. to 4 p.m. (room to be determined). The Enforcement Committee will meet on Tuesday, December 8, 2015, from 1 p.m. to 4 p.m. (room to be determined). The Charter Implementation Committee will meet on Tuesday, December 8, 2015, from 1 p.m. to 4 p.m. (room to be determined). The Individual Fishing Quota Committee will meet on Tuesday, December 8, 2015, from 4 p.m. to 7:30 p.m. (room to be determined).

Agenda

Monday, December 7, 2015 Through Tuesday, December 15, 2015

Council Plenary Session: The agenda for the Council's plenary session will include the following issues. The Council may take appropriate action on any of the issues identified.

(1) Executive Director's Report (Quintillion Fiber Optic Cable Presentation (T))

(2) NMFS Management Report (Report on Final 2016 Observer Annual Deployment Plan)

(3) ADF&G Report

(4) NOAA Enforcement Report

(5) USCG Report

(6) USFWS Report

(7) Protected Species Report

(8) Amendment 80 Coop Reports on 2016 Halibut PSC Management Plans

(9) BSAI Groundfish Harvest Specifications—Final Action

(10) GOA Groundfish Harvest Specifications and Halibut DMRS—Final Action

(11) GOA Chinook Salmon PSC Reapportionment—Final Action

(12) Bering Sea Fishery Ecosystem Plan—Discussion Paper

(13) Charter Halibut Measures for 2016—Final Action

(14) Charter Halibut RQE Program—Initial Review

(15) Halibut Management Framework—Review

(16) Biomass-based BSAI Halibut PSC Limits—Discussion Paper

(17) GOA Trawl Bycatch Management Workplan—Review

(18) Halibut Retention in Pots—Discussion Paper

(19) Area 4 Halibut Leasing Options for CDQ Vessels—Discussion Paper

(20) Halibut/Sablefish IFQ Program Review—Review Outline

(21) AFA Program Review—Review Workplan

(22) Enforcement Precepts—Enforcement Committee Report

(23) Bristol Bay Red King Crab Savings Area Exempted Fishing Permit—Review

The Advisory Panel will address most of the same agenda issues as the Council except B reports.

The SSC agenda will include the following issues:

(1) BSAI Groundfish Harvest Specifications—Final Action

(2) GOA Groundfish Harvest Specifications and Halibut DMRS—Final Action

(3) Bristol Bay Red King Crab Savings Area Exempted Fishing Permit—Review

(4) GOA Chinook Salmon PSC Reapportionment—Final Action

(5) Charter Halibut RQE Program—Initial Review

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org/.

Although non-emergency issues not contained in this agenda may come before these groups for discussion, in accordance with the Magnuson-Stevens Fishery Conservation and Management Act (Magnuson-Stevens Act), those issues may not be the subject of formal action during these meetings. Actions will be restricted to those issues specifically identified in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Shannon Gleason at (907) 271-2809 at least 7 working days prior to the meeting date.

Dated: November 16, 2015.
Tracey L. Thompson,
Acting Deputy Director, Office of Sustainable Fisheries, National Marine Fisheries Service.

[FR Doc. 2015-29546 Filed 11-18-15; 8:45 am]

BILLING CODE 3510-22-P